FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 14, 2008.

A. Federal Reserve Bank of Atlanta (David Tatum, Vice President) 1000 Peachtree Street, N.E., Atlanta, Georgia 30309:

1. Citizens Investors, LLC, Savannah, Georgia, with its members, Robert C. Bush, Winter Park, Florida; Garfield Langmuir-Logan, San Juan Capistrano, California; John A. Murphy, Richmond Hill, Georgia; Thomas P. Prince, Winter Park, Florida; Elsie R. Chisholm, Michael M. Dobbs, Jack Eades; Harvey J. Gilbert; Douglas A. Goldstein; Thomas J. Hussey; Michael J. Kistler; Richard G. Mopper; Patrick T. O'Connor; Jerry E. Russell; Mark V. Smith; Henry D. Stevens IV; Gerald M. Thorne; and Jeffrey R. Tucker,; all of Savannah, Georgia, to acquire voting shares of First Citizens Bankshares, and thereby indirectly acquire voting shares of First Citizens Bank, both of Glennville, Georgia.

B. Federal Reserve Bank of Kansas City (Todd Offenbacker, Assistant Vice President) 925 Grand Avenue, Kansas City, Missouri 64198-0001:

1. Notice by Lawrence W. Stanosheck; James B. Stanosheck, both of Odell, Nebraska; Karen J. Nannen, Randolph, Nebraska; and Mary Ellen Watkins, Aptos, California; as a group to acquire voting shares of S. & S. Investment Company, and thereby indirectly acquire voting shares of State Bank of Odell, both in Odell, Nebraska.

Board of Governors of the Federal Reserve System, February 25, 2008.
Robert deV. Frierson,
Deputy Secretary of the Board.

[FR Doc. E8-3867 Filed 2-28-08; 8:45 am]

BILLING CODE 6210-01-S